ENVIRONMENTAL PROTECTION AGENCY

[EPA-HQ-OPP-2023-0015; FRL-10897-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2022, to March 31, 2023, to control unforeseen pest outbreaks.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2023-0015, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests for a specific crop/site on a limited acreage, or other unit for treatment (e.g., square footage, cartons of produce in a particular State. Most emergency exemptions are specific exemptions.

2. “Quarantine” and “public health” exemptions are emergency exemptions issued for quarantine or public health purposes. These are requested less frequently than specific exemptions.

3. A “crisis exemption” is initiated by a State or Federal agency (and is concurred upon by EPA) when there is insufficient time to request and obtain EPA permission for emergency use of a pesticide under one of the other types of emergency exemptions.

EPA may deny an emergency exemption request: If the State or Federal agency cannot demonstrate that an emergency exists, if the use poses unacceptable risks to the environment, or if EPA cannot reach a conclusion that the proposed pesticide use is likely to result in “a reasonable certainty of no harm” to human health, including exposure of infants and children to residues of the pesticide.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized, the pests, the crop or use for which authorized, number of acres or other unit for treatment (if applicable), and the effective date of the exemption. EPA also gives the Federal Register citation for the time-limited tolerance, if any, and notes when a Notice of Receipt (if required under 40 CFR 166.24) was published in the Federal Register.

III. Emergency Exemptions

A. U.S. States and Territories

California

Department of Pesticide Regulation

Specific exemption: EPA authorized the use of kasugamycin on a maximum of 102,000 acres of almond trees to control bacterial blast. Time-limited tolerances in connection with a previous action are established in 40 CFR 180.614(b). This authorization was effective February 1, 2023.

Louisiana

Department of Agriculture and Forestry

Specific exemption: EPA authorized the use of triclopyr on a maximum of 450,000 acres of sugarcane to control divine nightshade. A time-limited tolerance in connection with this action is established in 40 CFR 180.417(b). The authorization was effective October 3, 2022.

Massachusetts

Department of Agricultural Resources

Specific exemption: EPA authorized the use of pronamide on a maximum of 5,000 acres of cranberries to control dodder. A time-limited tolerance in connection with this action is established in 40 CFR 180.317(b). The authorization was effective April 15, 2023.

Texas

Department of Agriculture

Quarantine exemption: EPA authorized the use of thiamethoxam on a maximum of 190,000 acres of commercial rice fields to control the rice delphacid. Time-limited tolerances in connection with this action are established for thiamethoxam in 40 CFR 180.565(b). Section 18 use of thiamethoxam on rice results in potential clothianidin (a major metabolite of thiamethoxam) residues that, when combined with the residues from the Section 3 use of clothianidin on rice, requires an increase in the tolerance for residues of clothianidin in rice. Therefore, a time-limited tolerance is established in 40 CFR 180.586(b), to support this emergency use. The authorization was effective October 12, 2022.

B. Federal Departments and Agencies

United States Department of Agriculture

Animal and Plant Health Inspector Service

Quarantine exemptions: EPA authorized the use of a mixture of sodium hypochlorite and propylene glycol in freezing temperatures to decontaminate hard, nonporous outdoor surfaces associated with poultry facilities infected with Newcastle disease virus. The authorization was effective October 18, 2022.

EPA authorized the use of a mixture of potassium peroxymonosulfate and propylene glycol for disinfection of hard, nonporous surfaces associated with poultry facilities infected with Newcastle disease virus. The authorization was effective December 20, 2022.

EPA authorized the use of methyl bromide to fumigate post-harvest unlabeled imported/domestic commodities to prevent the introduction/spread of any new or recently introduced foreign pest(s) to any U.S. geographical location. The authorization was effective March 3, 2023.

National Aeronautics and Space Administration

Specific exemption: EPA authorized the use of ortho-phthaldehyde, immobilized to a porous resin, to treat the International Space Station (ISS) internal active thermal control system (IATCS) coolant for control of aerobic and microaerophilic water bacteria and unidentified gram-negative rods. This specific exemption was granted because, without this use, the ISS would have no means to control organisms in the IATCS since there are no registered alternatives available that meet the required criteria. The emergency request proposed a use of a new (unregistered) chemical. In accordance with the requirements at 40 CFR 166.24(a)(1), a notice of receipt published in the Federal Register on September 26, 2022, to allow a public comment period that closed on October 6, 2022. The authorization was effective October 7, 2022.

Authority: 7 U.S.C. 136 et seq.

Dated: April 26, 2023.
Charles Smith,
Director, Registration Division, Office of Pesticide Programs.

[FR Doc. 2023-09880 Filed 5-9-23; 8:45 am]

BILLING CODE 6560-50-P